DEPARTMENT OF ENERGY

Federal Energy Regulatory Commission

[Project No. 459-253]

Ameren/UE; Notice of Application for Amendment of License and Soliciting Comments, Motions To Intervene, and Protests

February 17, 2009.

a. Type of Application: Non-project use of project lands and waters.

b. Project Number: 459-253.

c. Date Filed: February 4, 2009.

d. Applicant: Ameren/UE.

e. Name of Project: Osage Hydroelectric Project.

f. Location: The project is located in Benton, Camden, Miller, and Morgan Counties, Missouri. The proposed action would be located at Captain Ron's Restaurant near mile marker 34.2+0.4 in Francis Hollow Cove on the Lake of the Ozarks, in Camden County, Missouri.

g. Filed Pursuant to: Federal Power Act, 16 U.S.C. 791(a) 825(r) and 799 and 801.

h. Applicant Contact: Mr. Jeff Green, Shoreline Supervisor, Ameren/UE, P.O. Box 993, Lake Ozark, MO 65049, (573) 365-9214.

i. FERC Contact: Any questions on this notice should be addressed to Christopher Yeakel at (202) 502-8132, or e-mail address: christopher.yeakel@ferc.gov.

j. Deadline for Filing Comments and/or Motions: March 17, 2009.

k. Description of Request: Ameren/UE requests approval to permit Buccaneer Bay, LLC, to modify 4 existing multi-slip boat docks and construct 2 new multi-slip boat docks at Captain Ron's Restaurant. The existing docks would be reconfigured to be consistent with AmerenUE's shoreline permitting guidelines. One existing dock would expand from 14 to 20 covered single slips. One proposed dock would consist of 8 double uncovered slips and extend 132 feet from the shoreline; the other proposed dock would consist of 8 single covered slips and extend 138 feet from the shoreline. Approval of the licensee's proposal would increase the permitted watercraft capacity of the facilities from 88 to 118 watercraft. The docks would be available to patrons of Captain Ron's Restaurant. No dredging, fuel dispensing, or sewage pumping facilities are proposed. In developing the application, the licensee consulted with the Missouri State Historic Preservation Officer, U.S. Fish and Wildlife Service, the Missouri Department of Conservation, and the Missouri State Water Patrol.

l. Locations of the Application: A copy of the application is available for inspection and reproduction at the Commission's Public Reference Room, located at 888 First Street, NE, Room 2A, Washington, DC 20426, or by calling (202) 502-8371. This filing may also be viewed on the Commission's Web site at http://www.ferc.gov using the “eLibrary” link. Enter the docket number excluding the last three digits in the docket number field (p-459) to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers (p-459-253). All documents (original and eight copies) should be filed with: Kimberly D. Bose, Secretary, Federal Energy Regulatory Commission, 888 First Street, NE., Washington DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-3857 Filed 2-23-09; 8:45 am]

BILLING CODE 6717-01-P